DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration, Office of Labor-Management Standards, is soliciting comments concerning the proposed information collection entitled Labor Organization and Auxiliary Reports. A copy of the proposed information collection request can be obtained by contacting the office listed below in the addressee section of this Notice.

DATES: Written comments must be submitted to the office listed in the addressee section below on or before July 12, 2002.

ADDRESSES: Ms. Patricia A. Forkel, U.S. Department of Labor, 200 Constitution Ave., NW., Room S-3201, Washington, DC 20210, telephone (202) 693-0339, fax (202) 693-1451, EMail pforkel@fenix2.dol-esa.gov. Please use only one method of transmission for comments (mail, fax, or EMail).

SUPPLEMENTARY INFORMATION:

I. Background

Congress enacted the Labor-Management Reporting and Disclosure Act (LMRDA), 29 U.S.C. 401 et seq., to provide for the disclosure of information on the financial transactions and administrative practices of labor organizations. The statute also provides, under certain circumstances, for reporting by labor organization officers and employees, employers, labor relations consultants, and surety companies. In addition, the statute requires: (a) the maintenance and retention of supporting records for five years after the required reports are filed, and (b) the preservation for one year of records of elections of union officers. Section 208 of the Act authorizes the Secretary to issue rules and regulations prescribing the form of the required reports. The reporting provisions were devised to implement a basic tenet of the LMRDA: the guarantee of democratic procedures and safeguards within labor organizations that are designed to protect the basic rights of union members. The implementing regulations specifically incorporate by reference the LMRDA reporting and record retention requirements of labor organization information, annual financial, and trusteeship reports, as well as the requirement for the preservation of election records. Information supplied on the reports may be utilized by union members to help self-govern their unions, by the general public, and as research material for both outside researchers and within the Department of Labor. The information is also used to assist DOL and other government agencies in detecting improper practices on the part of labor organizations, their officers and/or representatives, and is used by Congress in oversight and legislative functions. The information collection is currently approved by the Office of Management and Budget (OMB) for use through November 2002. The following is a list of the reporting forms contained in this information collection and their regulatory and legislative citations: LM-1, Labor Organization Information Report, 29 CFR 402, 29 U.S.C. 431(a); LM-2, Labor Organization Annual Report, 29 CFR 402.5 and 403.3; 29 U.S.C. 431(b); LM-3, Labor Organization Annual Report, 29 CFR 402.5 and 403.4; 29 U.S.C. 431(b); LM-4, Labor Organization Annual Report, 29 CFR 402.5 and 403.4; 29 U.S.C. 431(b); LM-10, Employer Report, 29 CFR Part 405, 29 U.S.C. 433(a); LM-15, Trusteeship Report, 29 CFR Part 408, 29 U.S.C. 461; LM-15A, Report on Selection of Delegates and Officers, 29 CFR Part 408, 29 U.S.C. 461; LM-16, Terminal Trusteeship Report, 29 CFR Part 408, 29 U.S.C. 461; LM-20, Agreement and Activities Report, 29 CFR Part 406, 29 U.S.C. 433(b); LM-21, Receipts and Disbursements Report, 29 CFR Part 406, 29 U.S.C. 433(b); LM-30, Labor Organization Officer and Employee Report, 29 CFR Part 404, 29 U.S.C. 432; S-1, Surety Company Annual Report, 29 CFR Part 409, 29 U.S.C. 441; Simplified Annual Report Format, 29 CFR Part 403, 29 U.S.C. 431(b).

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

Pursuant to § 205 of the LMRDA, the purpose of the reporting requirements is the public disclosure of the information and financial reports. Copies of every report submitted are maintained for public inspection and copying, upon request, at the U.S. Department of Labor, Room N5608, 200 Constitution Avenue, NW., Washington, DC 20210, and at the appropriate field office for the Department's Office of Labor-Management Standards (OLMS). Information supplied on the reports may be utilized by union members to help self-govern their unions, by the general public, and as research material for both outside researchers and within the Department of Labor. The information is also used to assist DOL and other government agencies in detecting improper practices on the part of labor organizations, their officers and/or representatives, and is used by Congress in oversight and legislative functions. Under this request, the Department of Labor is seeking extension of the approved expiration date of the forms described above for a three year period.

Type of Review: Extension.

Agency: Employment Standards Administration.

Titles: Labor Organization Information Report (LM-1); Labor Organization Annual Report (LM-2); Labor Organization Annual Report (LM-3); Labor Organization Annual Report (LM-4); Employer Report (LM-10); Trusteeship Report (LM-15); Report on Selection of Delegates and Officers (LM-15A); Terminal Trusteeship Report (LM-16); Agreement and Activities Report (LM-20); Receipts and Disbursements Report (LM-21); Labor Organization Officer and Employee Report (LM-30); Surety Company Annual Report (S-1); and the Simplified Annual Report Format.

OMB Number: 1215-0188.

Affected Public: Not-for-profit institutions, Businesses or other for-profit; Individuals or households.

Form | Responses/respondents | Hours per respondent | Reporting burden hours | Minutes per respondent | Recordkeeping hours | Total hours
LM-1 | 253 | 0.83 | 210 | 5 | 21 | 231
LM-2 | 5,932 | 14.75 | 87,497 | 30 | 2,966 | 90,463
LM-3 | 12,722 | 6.50 | 82,693 | 15 | 3,181 | 85,874
LM-4 | 8,108 | 0.83 | 6,730 | 2 | 270 | 7,000
LM-10 | 116 | 0.50 | 58 | 5 | 10 | 68
LM-15 | 427 | 1.50 | 641 | 20 | 142 | 783
LM-15A | 71 | 0.33 | 23 | 2 | 2 | 25
LM-16 | 110 | 0.33 | 36 | 1 | 2 | 38
LM-20 | 231 | 0.33 | 76 | 2 | 8 | 84
LM-21 | 36 | 0.50 | 18 | 5 | 3 | 21
LM-30 | 139 | 0.50 | 70 | 5 | 12 | 82
S-1 | 82 | 0.50 | 41 | 5 | 7 | 48
SARF* | 2,142 | 0.17 | 364 | 2 | 71 | 435
Total | 30,369 |  | 178,457 | 6,695 | 85,152
*Simplified Annual Report Format.

Total Burden Cost (capital/startup): $0.

Total Burden Cost (operation/maintenance): $0.

Comments submitted in response to this notice will be summarized and/or included in the request for Office of Management and Budget approval of the information collection request; they will also become a matter of public record.

Dated: May 6, 2002.
Margaret J. Sherrill,
Chief, Branch of Management Review and Internal Control, Division of Financial Management, Office of Management, Administration and Planning, Employment Standards Administration.

[FR Doc. 02-11880 Filed 5-10-02; 8:45 am]

BILLING CODE 4510-CP-P